ENVIRONMENTAL PROTECTION AGENCY

[FRL 10022-02-Region 3]

Notice of Administrative Settlement Agreement and Order on Consent for Response Action by Prospective Purchaser

AGENCY: Environmental Protection Agency (EPA).

ACTION: Notice; request for public comment.

SUMMARY: In accordance with the requirements of the Resource Conservation and Recovery Act, as amended by the Hazardous and Solid Waste Amendments (RCRA), and the Comprehensive Environmental Response, Compensation, and Liability Act of 1980, as amended (CERLCA), notice is hereby given by the U.S. Environmental Protection Agency (EPA), of an Administrative Settlement Agreement and Order on Consent for Response Action by Prospective Purchaser (Settlement Agreement), with NP Falls Township Industrial 2, LLC (Purchaser). The Settlement Agreement pertains to Purchaser's acquisition of a 342.97-acre property (Property) at the 2799-acre U.S. Steel Mon Valley Works—Fairless Hills Facility, located at S Pennsylvania Avenue, Fairless Hills, PA (Facility). The Settlement Agreement requires performance of specified cleanup activities pursuant to EPA's RCRA corrective action program at the Property and establishment of financial assurance for the benefit of EPA to ensure completion of the cleanup work. In return, the Settlement Agreement will resolve potential claims of the United States government for cleanup at the Facility under RCRA and CERCLA.

DATES: Comments must be submitted on or before April 26, 2021.

ADDRESSES: The proposed Settlement Agreement is available at: https://www.epa.gov/sites/production/files/2020-12/documents/us_steel_northpoint_2_ppa_final_.pdf. Comments should be submitted to Linda Matyskiela, Remedial Project Manager, EPA Region 3, Mail Code 3LD20, 1650 Arch Street, Philadelphia, PA 19103, (215) 814-3420, Matyskiela.Linda@epa.gov and should reference the Settlement Agreement.

You may also send comments, identified by Docket ID No. CERCLA-RCRA-03-2021-0051PP to http://www.regulations.gov. Follow the online instructions for submitting comments.

FOR FURTHER INFORMATION CONTACT: Thomas A. Cinti, Senior Assistant Regional Counsel, Office of Regional Counsel, EPA Region III, Mail Code 3RC20, 1650 Arch Street, Philadelphia, PA 19103, (215) 814-2634, Cinti.Thomas@epa.gov.

SUPPLEMENTARY INFORMATION: EPA will receive written comments relating to the Settlement Agreement. EPA will consider all comments received and may modify or withdraw its consent to the Settlement Agreement if comments received disclose facts or considerations that indicate that the Settlement Agreement is inappropriate, improper, or inadequate. Once submitted, comments cannot be edited or removed from Regulations.gov. EPA may publish any comment received to its public docket. Do not submit electronically any information you consider to be Confidential Business Information (CBI) or other information whose disclosure is restricted by statute. If CBI exists, please contact Ms. Linda Matyskiela. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit https://www.epa.gov/dockets/commenting-epa-dockets. EPA's response to any comments received will be available for public inspection at EPA Region III, 1650 Arch Street, Philadelphia, PA 19103.

Stacie Driscoll,
Acting Director, Land, Chemicals and Redevelopment Division, EPA Region III.

[FR Doc. 2021-06308 Filed 3-25-21; 8:45 am]

BILLING CODE 6560-50-P